DEPARTMENT OF ENERGY

Federal Energy Regulatory Commission

Notice of Commission Staff Attendance

The Federal Energy Regulatory Commission (Commission) hereby gives notice that members of the Commission's staff may attend the following meeting related to the transmission planning activities of the Southern Company Services, Inc.

The Southeastern Regional Transmission Planning (SERTP) Process 3rd Quarter Meeting

September 30, 2014, 10:00 a.m.-1:00 p.m., Local Time

The above-referenced meeting will be via web conference.

The above-referenced meeting is open to stakeholders.

Further information may be found at: www.southeasternrtp.com.

The discussions at the meeting described above may address matters at issue in the following proceedings:

Docket Nos. ER13-83, ER13-1928, Duke Energy Carolinas/Carolina Power & Light

Docket Nos. ER13-908, ER13-1941, Alabama Power Company et al.

Docket Nos. ER13-913, ER13-1940, Ohio Valley Electric Corporation

Docket Nos. ER13-897, ER13-1930, Louisville Gas and Electric Company and Kentucky Utilities Company

Docket Nos. ER13-107, ER13-1935, South Carolina Electric & Gas Company

Docket Nos. ER13-80, ER13-1932, Tampa Electric Company

Docket No. ER13-86, Florida Power Corporation

Docket Nos. ER13-104, ER13-1929, Florida Power & Light Company

Docket No. ER13-1922, Duke Energy Florida (Progress Energy Florida)

Docket Nos. ER13-195, ER13-198, ER13-1927, ER13-1936, PJM Interconnection, L.L.C.

Docket No. ER13-90, Public Service Electric and Gas Company and PJM Interconnection, L.L.C.

For more information, contact Valerie Martin, Office of Energy Market Regulation, Federal Energy Regulatory Commission at (202) 502-6139 or Valerie.Martin@ferc.gov.

Dated: September 26, 2014.
Nathaniel J. Davis, Sr.,
Deputy Secretary.

[FR Doc. 2014-23490 Filed 10-1-14; 8:45 am]

BILLING CODE 6717-01-P